DEPARTMENT OF ENERGY

Federal Energy Regulatory Commission

[Docket Nos. IC14-13-000 and IC14-15-000]

Commission Information Collection Activities (FERC-510 and FERC-549B) Comment Request

AGENCY: Federal Energy Regulatory Commission.

ACTION: Comment request.

SUMMARY: In compliance with the requirements of the Paperwork Reduction Act of 1995, 44 USC 3507(a)(1)(D), the Federal Energy Regulatory Commission (Commission or FERC) is submitting its information collection FERC-510 (Application for Surrender of Hydropower License) and FERC-549B (Gas Pipeline Rates: Capacity Reports and Index of Customers) to the Office of Management and Budget (OMB) for review of the information collection requirements. Any interested person may file comments directly with OMB and should address a copy of those comments to the Commission as explained below. The Commission previously issued notices in the Federal Register for FERC-510 (79 FR 32925,6/9/2014) and FERC-549B (79 FR 32929, 6/9/2014) requesting public comments. The Commission received no comments on these collections and is making this notation in its submittal to OMB.

Note: The Commission issued both 60-day notices for both the FERC-510 and FERC-549B separately under different docket numbers. Both docket numbers (IC14-13-000 and IC14-15-000) are combined in this notice. This combination has no effect on the requirements within each information collection.

DATES: Comments on the collection of information are due by September 22, 2014.

ADDRESSES: Comments filed with OMB, identified by the OMB Control No. 1902-0068 (FERC-510) or 1902-0169 (FERC-549B) should be sent via email to the Office of Information and Regulatory Affairs: oira_submission@omb.gov. Attention: Federal Energy Regulatory Commission Desk Officer. The Desk Officer may also be reached via telephone at 202-395-4718.

A copy of the comments should also be sent to the Commission, in Docket No. IC14-13-000 or IC14-15-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, by telephone at (202) 502-8663, and by fax at (202) 273-0873.

SUPPLEMENTARY INFORMATION:

Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-510, Application for Surrender of Hydropower License

OMB Control No.: 1902-0068.

Abstract: The information collected under the requirements of FERC-510 is used by the Commission to implement the statutory provisions of sections 4(e), 6 and 13 of the Federal Power Act (FPA) (16 U.S.C. sections 797(e), 799 and 806). Section 4(e) gives the Commission authority to issue licenses for the purposes of constructing, operating and maintaining dams, water conduits, reservoirs, powerhouses, transmission lines or other power project works necessary or convenient for developing and improving navigation, transmission and utilization of power using bodies of water over which Congress has jurisdiction. Section 6 gives the Commission the authority to prescribe the conditions of licenses including the revocation or surrender of the license. Section 13 defines the Commission's authority to delegate time periods for when a license must be terminated if project construction has not begun. Surrender of a license may be desired by a licensee when a licensed project is retired or not constructed or natural catastrophes have damaged or destroyed the project facilities.

FERC-510 is the application for the surrender of a hydropower license. The information is used by Commission staff to determine the broad impact of such surrender. The Commission will issue a notice soliciting comments from the public and other agencies and conduct a careful review of the application before issuing an order for Surrender of a License. The order is the result of an analysis of the information produced, i.e., economic, environmental concerns, etc., which is examined to determine if the application for surrender is warranted. The order implements the existing regulations and is inclusive for surrender of all types of hydropower licenses issued by FERC and its predecessor, the Federal Power Commission. The Commission implements these mandatory filing requirements in the Code of Federal Regulations (CFR) under 18 CFR 6.1-6.4.

Type of Respondent: Private or Municipal Hydropower Licensees.

Estimate of Annual Burden: The Commission estimates the annual public reporting burden for the information collection as:

FERC-510, Application for Surrender of Hydropower License
Number of respondents (1) | Annual number of responses per respondent (2) | Total number of responses (1)*(2)=(3) | Average burden & cost per response ¹ (4) | Total annual burden hours & total annual cost (3)*(4)=(5) | Cost per respondent ($) (5)÷(1)
16 | 1 | 16 | 10 $705 | 160 $11,280 | $705
¹ We estimate that the salary and skill mix is similar to that of Commission employees. The average hourly cost of $70.50 (for salary plus benefits) is used. The estimates for cost per response are derived using the following formula: Average Burden Hours per Response * $70.50 per Hour = Average Cost per Response.

FERC-549B, Gas Pipeline Rates: Capacity Reports and Index of Customers

OMB Control No.: 1902-0169

Abstract: The information collected under the requirements of FERC-549B includes both the Index of Customers (IOC) report under Commission regulations at 18 Code of Federal Regulations (CFR) 284.13(c) and three capacity reporting requirements. One of these is in Commission regulations at 18 CFR 284.13(b) and requires reports on firm and interruptible services. The second is at 18 CFR 284.13(d)(1) and requires pipelines make information on capacity and flow information available on their Internet Web sites. The third is at 18 CFR 284.13(d)(2) and requires an annual filing of peak day capacity.

Capacity Reports Under 284.13(b) and 284.13(d)(1)

On April 4, 1992, in Order No. 636 (RM91-11-000), the Commission established a capacity release mechanism under which shippers could release firm transportation and storage capacity on either a short- or long-term basis to other shippers wanting to obtain capacity. Pipelines posted available firm and interruptible capacity information on their electronic bulletin boards (EBBs) to inform potential shippers.

On August 3, 1992, in Order No. 636-A (RM91-11-002), the Commission determined through staff audits, that the efficiency of the capacity release mechanism could be enhanced by standardizing the content and format of capacity release information and the methods by which shippers accessed this information, which pipelines posted to their EBBs

On March 29, 1995, through Order 577 (RM95-5-000), the Commission amended § 284.243(h) of its regulations to allow shippers the ability to release capacity without having to comply with the Commission's advance posting and bidding requirements.

On February 9, 2000, in Order No. 637 (RM98-10-000), to create greater substitution between different forms of capacity and to enhance competition across the pipeline grid, the Commission revised its capacity release regulations regarding scheduling, segmentation and flexible point rights, penalties, and reporting requirements. This resulted in more reliable capacity information availability and price data that shippers needed to make informed decisions in a competitive market as well as to improve shipper's and the Commission's ability to monitor the market for potential abuses.

Peak Day Annual Capacity Report Under 284.13(d)(2)

18 CFR 284.13(d)(2) requires an annual peak day capacity report of all interstate pipelines, including natural gas storage only companies. This report is generally a short report showing the peak day design capacity or the actual peak day capacity achieved, with a short explanation, if needed. The regulation states:

An interstate pipeline must make an annual filing by March 1 of each year showing the estimated peak day capacity of the pipeline's system, and the estimated storage capacity and maximum daily delivery capability of storage facilities under reasonably representative operating assumptions and the respective assignments of that capacity to the various firm services provided by the pipeline.

This annual report/filing is publicly available, while other more specific interstate pipeline and storage capacity details are filed as CEII, such as the Annual System Flow Diagram (FERC-567) which are not publicly available.

Index of Customers Under 284.13(c)

In Order 581, issued September 28, 1995 (Docket No. RM95-4-000), the Commission established the IOC quarterly information requirement. This Order required the reporting of five data elements in the IOC filing: the customer name, the rate schedule under which service is rendered, the contract effective date, the contract termination date, and the maximum daily contract quantity, for either transportation or storage service, as appropriate.

In a notice issued separate from Order 581 in Docket No. RM95-4-000, issued February 29, 1996, the Commission, through technical conferences with industry, determined that the IOC data reported should be in tab delimited format on diskette and in a form as proscribed in Appendix A of the rulemaking. In a departure from past practice, a three-digit code, instead of a six-digit code, was established to identify the respondent.

In Order 637, issued February 9, 2000 (Docket Nos. RM98-10-000 and RM98-12-000), the Commission required the filing of: the receipt and delivery points held under contract and the zones or segments in which the capacity is held, the common transaction point codes, the contract number, the shipper identification number, an indication whether the contract includes negotiated rates, the names of any agents or asset managers that control capacity in a pipeline rate zone, and any affiliate relationship between the pipeline and the holder of capacity. It was stated in the Order that the changes to the Commission's reporting requirements would enhance the reliability of information about capacity availability and price that shippers need to make informed decisions in a competitive market as well as improve shippers' and the Commission's ability to monitor marketplace behavior to detect, and remedy anti-competitive behavior. Order 637 required a pipeline post the information quarterly on its Internet Web sites instead of on the outdated EBBs.

Type of Respondent: Respondents for this data collection are interstate pipelines subject to FERC regulation under the Natural Gas Act and those entities defined as Hinshaw Pipelines under the Natural Gas Policy Act.

Estimate of Annual Burden: The Commission estimates the annual public reporting burden for the information collection as:

FERC-549B (Gas Pipeline Rates: Capacity Reports and Index of Customers)
| Number of respondents (1) | Annual number of responses per respondent (2) | Total number of responses (1)*(2)=(3) | Average burden & cost per response ² (4) | Total annual burden hours & total annual cost (3)*(4)=(5) | Cost per respondent ($) (5)÷(1)
Capacity Reports under 284.13(b) & 284.13(d)(1) | 185 | 6 | 1,110 | 145 $10,222.50 | 160,950 $11,346,975 | 61,335
93049344Peak Day Annual Capacity Report under 284.13(d)(2) | 185 | 1 | 185 | 10 $705 | 1,850 $130,425 | 705
Index of Customers under 284.13(c) | 185 | 4 | 740 | 3 $211.50 | 2,220 $156,510 | 846
Total |  |  | 2,035 |  | 165,020 $11,633,910 | 62,886
² The estimates for cost per response are derived using the following formula: Average Burden Hours per Response * $70.50 per hour. This cost is based on the average FERC employee salary. We assume (based upon consultation of subject matter experts for this industry) that respondents to this collection are similarly compensated in terms of salary and benefits.

Dated: August 15, 2014.
Kimberly D. Bose,
Secretary.

[FR Doc. 2014-19863 Filed 8-20-14; 8:45 am]

BILLING CODE 6717-01-P